DEPARTMENT OF STATE

[Public Notice 7956]

International Joint Commission; International Joint Commission To Hold Public Hearings on Lake Osoyoos

The International Joint Commission (IJC) is inviting the public to comment on recommendations for the renewal of its Lake Osoyoos order. The order provides for the regulation of water levels of Lake Osoyoos for the benefit of agriculture, tourism, municipal interests, and fisheries protection.

Water levels of Lake Osooyos have been regulated by the IJC since 1946, when it approved alterations to an existing dam downstream from the lake. Under orders of the IJC, a new structure was constructed in 1987 to replace the dam. The orders set maximum and minimum lake elevations of 911.5 and 909 feet during normal years. During a drought year, water may be stored to lake elevations as high as 913.0 feet.

The current Orders of Approval for Lake Osoyoos are set to expire on February 22, 2013, unless renewed. The IJC asked its International Osoyoos Lake Board of Control (the Board) to present a report of recommendations for renewing the Osoyoos Lake Orders. Drawing on the results of eight studies commissioned by IJC, the Board recommends that the scope of a renewed Order remain limited to the management of lake levels with only minor modifications that are primarily related to a revised lake-level rule curve (i.e. prescribed lake water level elevation limits over time per an IJC Order). The Board also recommends that the Commission should encourage the continued cooperation between British Columbia and the State of Washington to balance flow needs across the International Border and downstream of the dam, while respecting goals for Osoyoos Lake elevations and limits on releases that are possible from Okanagan Lake.

The Board recommends a public review of the proposed rule curve. The proposed rule curve would provide additional seasonal flexibility in achieving targeted lake levels, and would accommodate multiple uses and users of the lake. The proposed rule curve would also eliminate drought/non-drought declarations and would limit the maximum lake levels to 912.5 ft in the summer. More detailed discussion of the proposed rule curve and the Board's recommendations on renewal of the Order are contained in the Board's Report entitled Recommendations for Renewal of the International Joint Commission's Osoyoos Lake Order now posted on the IJC Web site at www.ijc.org.

Commissioners invite the public to comment on the report at the following times and locations:

July 24, 2012—7 p.m.

Oroville High School Commons, 1008 Ironwood St., Oroville, WA.

July 25, 2012—7 p.m.

Best Western Plus Sunrise Inn, 5506 Main Street, Osoyoos, BC.

Comments may also be submitted at the hearings, by mail or by email at either address below:

U.S. Section Secretary, International Joint Commission, 2000 L Street NW., Suite #615, Washington, DC 20036, Fax: 202-632-2007. Email: Commission@washington.ijc.org.

Canadian Section Secretary, International Joint Commission, 234 Laurier Avenue West, 22nd Floor, Ottawa, ON K1P 6K6, Fax: 613-993-5583, Email: Commission@ottawa.ijc.org.

The IJC will receive comments until August 31, 2012. The IJC will then consider public comments and review the report before making a decision on renewing the order.

The IJC prevents and resolves disputes between Canada and the United States under the 1909 Boundary Waters Treaty and pursues the common good of both countries as an independent and objective advisor to the two governments.

Contacts:

Washington, Frank Bevacqua, 202-736-9024.

Ottawa, Bernard Beckhoff, 613-947-1420.

Dated: July 10, 2012.
Charles A. Lawson,
Secretary, U.S. Section, International Joint Commission, Department of State.

[FR Doc. 2012-17260 Filed 7-13-12; 8:45 am]

BILLING CODE 4710-14-P